DEPARTMENT OF HEALTH AND HUMAN SERVICES

National Institutes of Health

Center for Scientific Review; Amended Notice of Meeting

Notice is hereby given of a change in the meeting of the Center for Scientific Review Special Emphasis Panel, October 03, 2013, 01:00 p.m. to October 03, 2013, 04:30 p.m., National Institutes of Health, 6701 Rockledge Drive, Bethesda, MD 20892 which was published in the Federal Register on September 05, 2013, 78 FR 172 Pgs. 54665-54666.

The meeting will start on December 10, 2013 at 1:00 p.m. and end December 10, 2013 at 4:30 p.m. The meeting location remains the same. The meeting is closed to the public.

Dated: October 29, 2013.
Michelle Trout,
Program Analyst, Office of Federal Advisory Committee Policy.

[FR Doc. 2013-26156 Filed 11-1-13; 8:45 am]

BILLING CODE 4140-01-P